DEPARTMENT OF ENERGY

Office of Energy Efficiency and Renewable Energy

Innovative Pathways Funding Opportunity Announcement

AGENCY: Office of Energy Efficiency and Renewable Energy, Department of Energy.

ACTION: Notice of funding opportunity announcement.

SUMMARY: The U.S. Department of Energy's (DOE) Office of Energy Efficiency and Renewable Energy's (EERE) Technology-to-Market (T2M) team is issuing a Funding Opportunity Announcement (DE-FOA-0001703) entitled Innovative Pathways. This FOA is seeking to surface new testable and scalable ways to alleviate common structural challenges facing promising new energy technologies on the pathway to market.

DATES: Letters of Intent are requested on or before January 18, 2017 and Full Applications are requested on or before February 15, 2017.

ADDRESSES: Interested persons are encouraged to submit questions, which must be submitted electronically to T2M@ee.doe.gov. The complete FOA, including the list of specific questions and submission instructions for the Letters of Intent and Full Applications, can be found at https://eere-exchange.energy.gov/.

FOR FURTHER INFORMATION CONTACT: Questions may be directed to Johanna Wolfson, U.S. Department of Energy, Office of Energy Efficiency and Renewable Energy, EE-61, 1000 Independence Avenue SW., Washington, DC 20585-0121. Telephone: 202-586-1040. Email: T2M@ee.doe.gov.

SUPPLEMENTARY INFORMATION: EERE is seeking proposals under two topic areas: (1) Technical Community and Industry Collaboration, and (2) Lowering Barriers to Resource Access. The two highlighted areas of interest for this FOA are Models for industry-startup partnerships under Topic 1, and New investment models under Topic 2. EERE's intent is to pilot and evaluate new mechanisms, and position those that are successful for adoption by the private sector. These mechanisms are intended to augment existing Tech-to-Market efforts currently supported. This Funding Opportunity is not intended to fund individual technology solutions directly. Rather, it will fund approaches that address common barriers across the larger energy ecosystem and help create more efficient pathways to market for clean energy technologies.

Subject to the availability of funds, up to $4,200,000 in Federal assistance will be provided over two years through this funding opportunity. A 20% recipient cost-share is required. EERE anticipates selecting up to seven pilot projects in the first year. After the first year, EERE will conduct a continuation review of the pilot projects. Up to three of the projects will be granted a continuation for a second year.

Lead applicants may include, but are not limited to, educational institutions, incubators/accelerators, research labs, non-profit entities, industry associations, corporations, and investment/financial/insurance firms.

Issued in Washington, DC, on January 9, 2017.
Johanna Wolfson,
Program Director/Selection Official, Office of Energy Efficiency and Renewable Energy.

[FR Doc. 2017-00664 Filed 1-12-17; 8:45 am]

BILLING CODE 6450-01-P